DEPARTMENT OF THE INTERIOR

Office of the Secretary

Invasive Species Advisory Committee

AGENCY: Office of the Secretary, Interior.

ACTION: Notice of public meeting (via Web Conferencing) of the Invasive Species Advisory Committee.

SUMMARY: Pursuant to the provisions of the Federal Advisory Committee Act, notice is hereby given of meetings of the Invasive Species Advisory Committee. The purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues. The purpose of a meeting via web conferencing, in lieu of physical travel, on August 18, 2015 is to convene the full Advisory Committee to discuss the work of its Subcommittee on Early Detection and Rapid Response (EDRR) in providing advice on a National EDRR Framework and Emergency Funding Plan; present an overview of the status of the report; discuss changes that have been made since the May 20-22, 2015 ISAC meeting in Silver Spring, Maryland; and to invite comments prior to submission of the final report to the White House Council on Climate Preparedness and Resilience in September 2015 (comments are due August 25, 2015.) The web conference URL, call-in number and access code will be provided upon registering online at https://app.smartsheet.com/b/form?EQBCT=4466bff1189943eda4d1039a0e98fa42, or by phone at 202-208-4122. A conference room will be available for members of the public to observe the web conference in person. For location, see ADDRESSES section below.

DATES: Meeting of the Invasive Species Advisory Committee via web conferencing: Tuesday, August 18, 2015; 3 p.m.-5 p.m. (EDT)

ADDRESSES: U.S. Department of the Interior, Stuart Udall Building (MIB), 1849 C Street NW., Room 1548, Washington, DC 20240. All visiting members of the public must be cleared through building security prior to being escorted to the conference room.

FOR FURTHER INFORMATION CONTACT: Kelsey Brantley, National Invasive Species Council Program Specialist and ISAC Coordinator, Phone: (202) 208-4122; Fax: (202) 208-4118; Email: Kelsey_Brantley@ios.doi.gov.

Dated: August 7, 2015.
Christopher P. Dionigi,
Acting Executive Director, National Invasive Species Council.

[FR Doc. 2015-19867 Filed 8-11-15; 8:45 am]

BILLING CODE 4334-63-P